DEPARTMENT OF THE INTERIOR

Fish and Wildlife Service

[FWS-R2-ES-2008-N0140; 20124-1113-0000-F2]

Balmorhea State Park Management Plan Habitat Conservation Plan, Reeves County, TX

AGENCY: Fish and Wildlife Service, Interior.

ACTION: Notice of availability: Draft low effect habitat conservation plan and permit application.

SUMMARY: The Texas Parks and Wildlife Department (Applicant) has applied for an incidental take permit (Permit) under Section 10(a)(1)(B) of the Endangered Species Act of 1973 as amended (ESA) for the incidental take of the endangered Comanche Springs pupfish (Cyprinodon elegans) and Pecos gambusia (Gambusia nobilis), as well as the following candidate species: Phantom springsnail (Tryonia cheatumi), diminutive amphipod (Gammarus hyalleloides), and Phantom Lake Cave Snail (Cochliopa texana). The potential take would occur incidental to normal management activities at Balmorhea State Park (Park), Reeves County, Texas.

DATES: To ensure consideration, we must receive written comments on or before August 7, 2008.

ADDRESSES: Persons wishing to review the application may obtain a copy by writing to the Regional Director, U.S. Fish and Wildlife Service, P.O. Box 1306, Room 4102, Albuquerque, NM 87103. Persons wishing to review the EA/HCP may obtain a copy by written or telephone request to William Amy, Ecological Services Office, U.S. Fish and Wildlife Service, 10711 Burnet Road, Suite 200, Austin, TX 78758 (512/490-0057, ext. 234). Documents will be available for public inspection by written request, or by appointment only during normal business hours (8 a.m. to 4:30 p.m.), at the above Austin address.

FOR FURTHER INFORMATION CONTACT: William Amy, Ecological Services Office, U.S. Fish and Wildlife Service, 10711 Burnet Road, Suite 200, Austin, TX 78758 (512/490-0057, ext. 234).

Applicant: The Texas Parks and Wildlife Department (Applicant) has applied for an incidental take permit (Permit) pursuant to Section 10(a)(1)(B) of the Endangered Species Act of 1973 as amended (16 U.S.C. 153101544, 87 Stat. 884) (ESA), from the U.S. Fish & Wildlife Service (Service) for incidental take of the endangered Comanche Springs pupfish (Cyprinodon elegans) and Pecos gambusia (Gambusia nobilis), as well as the following species, which are candidates to be listed: Phantom springsnail (Tryonia cheatumi), diminutive amphipod (Gammarus hyalleloides), and Phantom Lake Cave Snail (Cochliopa texana). The potential take is incidental to management activities at Balmorhea State Park.

SUPPLEMENTARY INFORMATION: Section 9 of the Act prohibits the “taking” of endangered species such as the Comanche Springs pupfish and Pecos gambusia. However, the Service, under limited circumstances, may issue permits to take endangered wildlife species incidental to, and not the purpose of, otherwise lawful activities. Regulations governing permits for endangered species are at 50 CFR 17.22.

The Balmorhea State Park Management Plan HCP qualifies as a “Low Effect” HCP as defined in the Service Habitat Conservation Planning Handbook (November 1996). Low Effect HCPs have relatively minor or negligible impacts. Therefore, this action is a categorical exclusion as provided by 516 DM 2 Appendix 1 and 516 DM 6 Appendix 1 and no further NEPA documentation is required. A determination of jeopardy or non-jeopardy to the species will not be made until at least 30 days after the date of publication of this notice. We provide this notice under Section 10(c) of the ESA and National Environmental Policy Act regulations (40 CFR 1506.6).

Public Comments

Before including your address, phone number, e-mail address, or other personal identifying information in your comment, you should be aware that your entire comment—including your personal identifying information—may be made publicly available at any time. While you can ask us in your comment to withhold your personal identifying information from public review, we cannot guarantee that we will be able to do so. Data or comments concerning the application and HCP should be submitted in writing to the Field Supervisor, U.S. Fish and Wildlife Service, Ecological Services Office, Austin, Texas at the above address. Please refer to permit number TE-183172-0 when submitting comments.

Christopher T. Jones,
Acting Regional Director, Region 2, Albuquerque, New Mexico.

[FR Doc. E8-15466 Filed 7-7-08; 8:45 am]

BILLING CODE 4310-55-P